DEPARTMENT OF COMMERCE

International Trade Administration

[A-580-809]

Circular Welded Non-Alloy Steel Pipe From the Republic of Korea: Final Results of Antidumping Duty Administrative Review; 2017-2018

AGENCY: Enforcement and Compliance, International Trade Administration, Department of Commerce.

SUMMARY: The Department of Commerce (Commerce) finds that the producers/exporters subject to this administrative review made sales of circular welded non-alloy steel pipe (CWP) from the Republic of Korea (Korea) at less than normal value (NV) during the period of review (POR), November 1, 2017 through October 31, 2018.

DATES: Applicable November 6, 2020.

FOR FURTHER INFORMATION CONTACT: Andre Gziryan, AD/CVD Operations, Office I, Enforcement and Compliance, International Trade Administration, U.S. Department of Commerce, 1401 Constitution Avenue NW, Washington DC 20230; telephone: (202) 482-2201.

SUPPLEMENTARY INFORMATION:

Background

This review covers 25 producers and/or exporters of the subject merchandise.¹ Commerce selected two mandatory respondent for individual examination: Husteel Co., Ltd. (Husteel) and Nexteel Co., Ltd. (Nexteel). The producers/exporters which were not selected for individual examination are listed in Appendix II of this notice.

¹ See Initiation of Antidumping and Countervailing Duty Administrative Reviews, 84 FR 2159 (February 6, 2019).

On January 16, 2020, Commerce published the Preliminary Results of this administrative review.² We invited interested parties to comment on the Preliminary Results. Between February 28, 2020 and March 12, 2020, Commerce received timely filed case and rebuttal briefs from various interested parties.³

² See Circular Welded Non-Alloy Steel Pipe From the Republic of Korea: Preliminary Results of Antidumping Duty Administrative Review; 2017-2018, 85 FR 2719 (January 16, 2020) (Preliminary Results) and accompanying Preliminary Decision Memorandum (PDM).

³ See Petitioner's Letter, “Circular Welded Non-Alloy Steel Pipe From the Republic of Korea: Case Brief of Wheatland Tube.,” dated February 28, 2020; Husteel's Letter, “Circular Welded Non-Alloy Steel Pipe from South Korea, Case No. A-580-809: Husteel Case Brief,” dated February 28, 2020; Hyundai Steel's Letter, “Circular Welded Non-Alloy Steel Pipe from the Republic of Korea: Case Brief,” dated February 28, 2020; NEXTEEL's Letter, “Circular Welded Non-Alloy Steel Pipe from the Republic of Korea: NEXTEEL's Case Brief,” dated February 28, 2020; SeAH Letter, “Administrative Review of the Antidumping Order on Circular Welded Non-Alloy Steel Pipe from Korea — Case Brief of SeAH Steel Corporation,” dated February 28, 2020; petitioner's Letter, “Circular Welded Non-Alloy Steel Pipe From the Republic of Korea—Rebuttal Brief of Wheatland Tube and Nucor Tubular Products Inc.,” dated March 12, 2020; Husteel's Letter, “Circular Welded Non-Alloy Steel Pine from Korea. Case No. A-580-809: Husteel Rebuttal Brief,” dated March 12, 2020; Hyundai Steel's Letter, “Circular Welded Non-Alloy Steel Pipe from the Republic of Korea: Rebuttal Brief,” dated March 12, 2020; and NEXTEEL's Letter, “Circular Welded Non-Alloy Steel Pipe from the Republic of Korea: NEXTEEL's Rebuttal Brief,” dated March 12, 2020.

April 24, 2020, Commerce tolled all deadlines in administrative reviews by 50 days.⁴ On May 26, 2020, Commerce extended the deadline for issuing these final results until September 2, 2020.⁵ On July 21, 2020, Commerce tolled all deadlines for all preliminary and final results in administrative reviews by 60 days, thereby extending the deadline for these final results until November 2, 2020.⁶ Commerce conducted this review in accordance with section 751(a) of the Tariff Act of 1930, as amended (the Act).

⁴ See Memorandum, “Tolling of Deadlines for Antidumping and Countervailing Duty Administrative Reviews in Response to Operational Adjustments Due to COVID-19,” dated April 24, 2020.

⁵ See Memorandum, “Circular Welded Non-Alloy Steel Pipe from the Republic of Korea: Extension of Deadline for Final Results of 2017-2018 Antidumping Administrative Review,” dated May 26, 2020.

⁶ See Memorandum,” Tolling of Deadlines for Antidumping and Countervailing Duty Administrative Reviews,” dated July 21, 2020.

Scope of the Order

The merchandise subject to the order is circular welded non-alloy steel pipe and tube. Imports of the product are currently classifiable in the Harmonized Tariff Schedule of the United States (HTSUS) under subheadings 7306.30.1000, 7306.30.5025, 7306.30.5032, 7306.30.5040, 7306.30.5055, 7306.30.5085, and 7306.30.5090. While the HTSUS subheadings are provided for convenience and customs purposes, the written description is dispositive. For a complete description of the scope of the order, see the Issues and Decision Memorandum.⁷

⁷ See Memorandum, “Issues and Decision Memorandum for the Final Results of the 2017-2018 Administrative Review of the Antidumping Duty Order on Circular Welded Non-Alloy Steel Pipe from the Republic of Korea,” dated concurrently with, and hereby adopted by, this notice (Issues and Decision Memorandum).

Analysis of Comments Received

All issues raised in the case and rebuttal briefs filed by parties in this review are addressed in the Issues and Decision Memorandum, which is hereby adopted by this notice. A list of the issues raised is attached to this notice at in Appendix I. The Issues and Decision Memorandum is a public document and is on file electronically via Enforcement and Compliance's Antidumping and Countervailing Duty Centralized Electronic Service System (ACCESS). ACCESS is available to registered users at https://access.trade.gov. In addition, a complete version of the Issues and Decision Memorandum can be accessed at htttp://enforcement.trade.gov/frn/index.html. The signed and electronic versions of the Issues and Decision Memorandum are identical in content.

Changes Since the Preliminary Results

Based on our analysis of the comments received, we made certain changes to the margin calculations for Husteel and Nexteel. For a discussion of these changes, see the “Changes Since the Preliminary Results” section of the Issues and Decision Memorandum.

Rate for Non-Examined Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero or de minimis margins, and any margins determined entirely {on the basis of facts available}.”

For these final results, we calculated weighted-average dumping margins for Husteel and Nexteel that are not zero, de minimis, or determined entirely on the basis of facts available. Accordingly, Commerce has assigned to the companies not individually examined in this review (see Appendix II for a full list of these companies) a margin of 21.01 percent, which is the weighted-average of the antidumping duty margins calculated using the public ranged sales data of Husteel and Nexteel.

Final Results of Review

We are assigning the following weighted-average dumping margins to the firms listed below for the period November 1, 2017 through October 31, 2018:

⁸ See Appendix II for a full list of these companies.

Producer/exporter | Weighted- average dumping margin (percent)
Husteel Co., Ltd | 4.92
Nexteel Co., Ltd | 27.28

Review-Specific Average Rate Applicable to the Following Companies
Producer/exporter | Weighted- average dumping margin (percent)
Other Respondents ⁸ | 21.01

Disclosure

We intend to disclose to interested parties the calculations performed within five days of the date of publication of this notice to parties in this proceeding, in accordance with 19 CFR 351.224(b).

Assessment

Pursuant to section 751(a)(2)(C) of the Act and 19 CFR 351.212(b), Commerce shall determine, and U.S. Customs and Border Protection (CBP) shall assess, antidumping duties on all appropriate entries of subject merchandise in accordance with the final results of this review. Commerce intends to issue assessment instructions to CBP 15 days after the date of publication of these final results.

For Husteel and Nexteel, because the weighted-average dumping margins are not zero or de minimis (i.e., less than 0.5 percent), Commerce has calculated importer-specific antidumping duty assessment rates.⁹ We calculated importer-specific antidumping duty assessment rates by aggregating the total amount of dumping calculated for the examined sales of each importer and dividing each of these amounts by the total sales value associated with those sales. We will instruct CBP to assess antidumping duties on all appropriate entries covered by this review where an importer-specific assessment rate is not zero or de minimis.¹⁰ Pursuant to 19 CFR 351.106(c)(2), we will instruct CBP to liquidate without regard to antidumping duties any entries for which the importer-specific assessment rate is zero or de minimis.¹¹

⁹ See 19 CFR 351.212(b)(1).

¹⁰ Id.

¹¹ See 19 CFR 351.106(c)(2).

Consistent with Commerce's assessment practice, for entries of subject merchandise during the POR produced by Husteel and Nexteel, for which the Husteel or Nexteel did not know that its merchandise was destined for the United States, we will instruct CBP to liquidate unreviewed entries at the all-others rate if there is no rate for the intermediate company(ies) involved in the transaction.¹²

¹² For a full discussion of this practice, see Antidumping and Countervailing Duty Proceedings: Assessment of Antidumping Duties, 68 FR 23954 (May 6, 2003).

For the companies which were not selected for individual review, we will assign an assessment rate equal to the weighted-average dumping margin identified above. The final results of this review shall be the basis for the assessment of antidumping duties on entries of merchandise covered by the final results of this review and for future deposits of estimated duties, where applicable.¹³

¹³ See section 751(a)(2)(C) of the Act.

Cash Deposit Requirements

The following cash deposit requirements will be effective for all shipments of subject merchandise entered, or withdrawn from warehouse, for consumption on or after the publication date of the final results of this administrative review, as provided for by section 751(a)(2) of the Act: (1) The cash deposit rate for companies subject to this review will be the rates established in these final results of the review; (2) for merchandise exported by producers or exporters not covered in this review but covered in a prior segment of the proceeding, the cash deposit rate will continue to be the company-specific rate published for the most recent period; (3) if the exporter is not a firm covered in this review, a prior review, or the original investigation but the producer is, then the cash deposit rate will be the rate established for the most recent period for the producer of the merchandise; (4) the cash deposit rate for all other producers or exporters will continue to be 4.80 percent,¹⁴ the all-others rate established in the investigation.

¹⁴ See Notice of Antidumping Duty Orders: Certain Circular Welded Non-Alloy Steel Pipe from Brazil, the Republic of Korea (Korea), Mexico, and Venezuela, and Amendment to Final Determination of Sales at Less Than Fair Value: Certain Circular Welded Non-Alloy Steel Pipe from Korea, 57 FR 49453 (November 2, 1992).

These cash deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

We are issuing and publishing this notice in accordance with sections 751(a)(1) and 777(i)(1) of the Act, and 19 CFR 351.221(b)(5).

Dated: November 2, 2020.
Jeffrey I. Kessler,
Assistant Secretary for Enforcement and Compliance.

Appendix I

List of Topics Discussed in the Issues and Decision Memorandum

I. Summary

II. Background

III. Scope of the Order

IV. Changes since the Preliminary Results

V. Rate for Non-Examined Companies

VI. Discussion of the Issues

Comment 1-A: Cost-Based Particular Market Situation Allegation

Comment 1-B: Evidence of a Particular Market Situation Allegation

Comment 1-C: Particular Market Situation Adjustment

Comment 2: Differential Pricing

VII. Recommendation

Appendix II

List of Companies Not Individually Examined

1. Aju Besteel

2. Bookook Steel

3. Chang Won Bending

4. Dae Ryung

5. Daewoo Shipbuilding & Marine Engineering (Dsme)

6. Daiduck Piping

7. Dong Yang Steel Pipe

8. Dongbu Steel

9. Eew Korea Company

10. Histeel

11. Hyundai Rb

12. Hyundai Steel Company (including Hyundai Steel (Pipe Division))

13. Kiduck Industries

14. Kum Kang Kind

15. Kumsoo Connecting

16. Miju Steel Manufacturing

17. Samkang M&T

18. Seah Fs

19. Seah Steel

20. Steel Flower

21. Vesta Co., Ltd.

22. Yep Co.

[FR Doc. 2020-24722 Filed 11-5-20; 8:45 am]

BILLING CODE 3510-DS-P